DEPARTMENT OF TRANSPORTATION

Research and Special Programs Administration

49 CFR Part 192

[Docket No. RSPA-00-7666; Notice 5]

RIN 2137-AD54

Pipeline Safety: Pipeline Integrity Management in High Consequence Areas (Gas Transmission Pipelines)

AGENCY: Office of Pipeline Safety (OPS), Research and Special Programs Administration (RSPA), DOT

ACTION: Notice of workshop.

SUMMARY: This notice announces a two-day workshop on proposed regulations on “Pipeline Integrity Management in High Consequence Areas”, jointly organized by the Interstate Natural Gas Association of America (INGAA) Foundation and the American Gas Association (AGA). This workshop is intended to give participants an understanding of the integrity management program requirements being proposed in the rule and the process to comment on the proposed rulemaking. An OPS representative will give an overview of the proposed regulation and answer questions about it.

DATES: The workshop is open to all. There is no registration fee. This workshop will be held on February 20, 2003, from 8 a.m. to 5 p.m., and on February 21, 2003, from 8 a.m. to 12 noon.

ADDRESSES: The workshop will be held at the Renaissance Houston Hotel, 6 Greenway Plaza, Houston, Texas, 713-629-1200.

FOR FURTHER INFORMATION CONTACT: Contact Mike Israni by phone at (202) 366-4571, by e-mail at mike.israni@rspa.dot.gov. General information about RSPA/OPS programs may be obtained by accessing OPS's Internet page at http://ops.dot.gov. For other details on this workshop contact Linda A. Thomas of INGAA at 202-216-5925.

SUPPLEMENTARY INFORMATION:

Background

RSPA/OPS has just proposed a rule to require operators of gas transmission pipelines to develop integrity management programs. The programs include conducting baseline and periodic assessments of pipeline segments. This follows rulemaking that requires integrity management programs for hazardous liquid pipelines. Although the hazardous liquid and natural gas programs are structured somewhat differently to accommodate the differences between the two types of pipeline systems, both integrity management programs are designed to identify the best method(s) for maintaining the structural soundness (i.e., integrity) of pipelines operating across the United States.

On January 9, 2002, RSPA/OPS began the integrity management rulemakings for gas transmission lines by proposing a definition of high consequence areas (See 67 FR 1108). We finalized the high consequence area definition on August 6, 2002 (67 FR 50824). On January 28, 2003 (68 FR 4278), we proposed a new 49 CFR 192.763 setting out integrity management program requirements for gas transmission pipelines affecting those areas. The comment period for this proposal closes on March 31, 2003.

The INGAA Foundation and AGA are conducting this workshop to give participants a better understanding of the proposed rule's requirements as they are intended to apply to gas transmission pipelines, and the process to comment on the proposed rulemaking. An OPS representative will give an overview of the proposed regulation and answer questions related to it.

The preliminary agenda for this AGA/INGAA sponsored workshop on Integrity Management for Natural Gas Pipelines is as follows:

February 20, 2003

Pipeline Safety Legislation—An overview of the recently passed legislation and its impact on the proposed integrity management program requirements.

Overview of Proposed Regulation—An OPS representative will discuss the intent and structure of the recently published proposed integrity management rule for gas transmission pipelines.

HCA Identification—An industry panel will discuss the high consequence area definition and the proposed refinement of that definition in the proposed integrity management rule.

Risk Assessment—An industry panel will discuss the risk assessment process detailed in the proposed rulemaking and compare it to present practices.

Plan Development—An industry panel will discuss the plan development as envisioned in the proposed rule and compare it to present practices.

IMP Implementation & Data Integration—Issues surrounding data integration and implementing the administrative process in a company will be discussed by an industry group.

February 21, 2003

Mitigation & Repair—An industry panel will discuss the proposed requirements for mitigation and remediation.

Performance Metrics—An industry panel will discuss performance measures for an integrity management program.

Open Forum and O&A—The audience will be able to query all the panelists and state their opinions during this session. Because this involves an open rulemaking, RSPA/OPS will include detailed notes of this workshop in the docket for the proposed rule. However, participants wishing to comment on the proposed rule should comment directly in the docket rather than rely on the notes of the workshop.

Issued in Washington, DC, on February 3, 2003.
James K. O'Steen,
Deputy Associate Administrator for Pipeline Safety.

[FR Doc. 03-3079 Filed 2-6-03; 8:45 am]

BILLING CODE 4910-60-P